FEDERAL RESERVE SYSTEM

Agency Information Collection Activities: Announcement of Board Approval Under Delegated Authority and Submission to OMB

AGENCY: Board of Governors of the Federal Reserve System

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-I's and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer - Michelle Long--Division of Research and Statistics, Board of Governors of the Federal Reserve System, Washington, DC 20551 (202-452-3829).

OMB Desk Officer-Mark Menchik--Office of Information and Regulatory Affairs, Office of Management and Budget, New Executive Office Building, Room 10235, Washington, DC 20503, or email to mmenchik@omb.eop.gov.

Final approval under OMB delegated authority of the extension for three years, with minor revision of the following report:

Report title: Ongoing Intermittent Survey of Households

Agency form number: FR 3016

OMB Control number: 7100-0150

Frequency: On occasion

Reporters: Households and individuals

Annual reporting hours: 658 hours

Estimated average hours per response: Division of Research & Statistics, 1.33 minutes; Division of Consumer & Community Affairs, 3 minutes; Other divisions, 5 minutes; and Non-SRC surveys, 90 minutes.

Number of respondents: 600

General description of report: This information collection is voluntary (12 U.S.C. 225a, 263, and 15 U.S.C. 1691b). No issue of confidentiality normally arises because names and any other characteristics that would permit personal identification of respondents are not reported to the Board. However, exemption 6 of the Freedom of Information Act (5 U.S.C. 552(b)(6)) would exempt this information from disclosure.

Abstract: The Federal Reserve uses this voluntary survey to obtain household-based information specifically tailored to the Federal Reserve's policy, regulatory, and operational responsibilities. The University of Michigan's Survey Research Center (SRC) includes survey questions on behalf of the Federal Reserve in an addendum to their regular monthly Survey of Consumer Attitudes and Expectations. The SRC conducts the survey by telephone with a sample of 500 households and includes questions of special interest to Board staff intermittently, as needed. The frequency and content of the questions depend on changing economic, regulatory, and legislative developments.

Current actions: On December 29, 2004, the Federal Reserve issued for public comment proposed revisions to allow contractors, either the SRC or others, to use broader surveying techniques, such as mall intercept testing, focus groups, and guided discussions (69 FR 78027). The Federal Reserve did not receive any comments. The changes will be implemented as proposed.

Final approval under OMB delegated authority of the extension for three years, without revision of the following report:

Report title: Recordkeeping Requirements associated with the Real Estate Lending Standards Regulation for State Member Banks

Agency form number: Reg H-5

OMB control number: 7100-0261

Frequency: Aggregate report, quarterly; policy statement, annually

Reporters: State member banks

Annual reporting hours: 19,660 hours

Estimated average hours per response: Aggregate report, 5 hours; policy statement, 20 hours

Number of respondents: 935

General description of report: This information collection is mandatory (12 U.S.C. 1828(o)) and is not given confidential treatment.

Abstract: State member banks must adopt and maintain a written real estate lending policy. Also, banks must identify their loans in excess of the supervisory loan-to-value limits and report (at least quarterly) the aggregate amount of the loans to the bank's board of directors.

Board of Governors of the Federal Reserve System, March 4, 2005.
Jennifer J. Johnson,
Secretary of the Board.

[FR Doc. 05-4689 Filed 3-9-05; 8:45 am]

BILLING CODE 6210-01-S